DEPARTMENT OF ENERGY

Federal Energy Regulatory Commission

[Docket No. RM02-1-000]

Standardization of Generator Interconnection Agreements and Procedures; Notice of Staff Public Meeting

January 3, 2002.

In October 2001, the Federal Energy Regulatory Commission (Commission) issued an Advance Notice of Proposed Rulemaking seeking comments on a standard generator interconnection agreement and procedure that would be applicable to all public utilities that own, operate, or control transmission facilities under the Federal Power Act. As part of this process, on January 11, 2002, the Generator Interconnection Coalition ¹ (Coalition) will file a single consensus document that will include a standard connection agreement and a standard interconnection procedures document.

¹ The Coalition includes representatives from: generators, marketers, transmission owners, industrial power producers, transmission dependent utilities, regional transmission organizations, independent system operators, distributed resources and state commissions. A list of the Coalition Members is included in Attachment 1 of the Coalition's Status Report, which was filed in this docket on December 14, 2001.

The Commission staff will hold public meetings on Thursday, January 17, 2002, and Friday, January 18, 2002, to discuss and clarify the consensus document. The meetings are scheduled to take place each day from 9 a.m. to 5 p.m in the Commission Meeting Room at the Federal Energy Regulatory Commission, 888 First St. NE, Washington, DC.

Linwood A. Watson, Jr.,
Acting Secretary.

[FR Doc. 02-470 Filed 1-7-02; 8:45 am]

BILLING CODE 6717-01-P